FEDERAL COMMUNICATIONS COMMISSION

47 CFR Part 90

[PS Docket No. 16-269, FCC 17-75]

Procedures for Commission Review of State Opt-Out Request From the FirstNet Radio Access Network

AGENCY: Federal Communications Commission.

ACTION: Final rule; announcement of effective date.

SUMMARY: In this document, the Commission announces that the Office of Management and Budget (OMB) has approved, for a period of six months, the information collection associated with the Commission's Procedures for Commission Review of State Opt-Out Request from the FirstNet Radio Access Network, Report and Order (Report and Order)'s rules and procedures for administering the state opt-out process as provided under the Middle Class Tax Relief and Job Creation Act of 2012, as well delineating the specific standards by which the Commission will evaluate state opt-out applications. This document is consistent with the Report and Order, which stated that the Commission would publish a document in the Federal Register announcing the effective date of those rules.

DATES: The amendments to 47 CFR 90.532(b) and (c) published at 82 FR 46690, October 6, 2017, are effective November 6, 2017.

FOR FURTHER INFORMATION CONTACT: For additional information about the information collection, contact Nicole Ongele, FCC, at (202) 418-2991 or via email PRA@fcc.gov and to Nicole.Ongele@fcc.gov.

SUPPLEMENTARY INFORMATION: This document announces that, on October 6, 2017, OMB approved this information collection under the emergency processing of the Paperwork Reduction Act (PRA), 5 CFR 1320.13, for a period of six months, the information collection requirements relating to the State opt-out rules contained in the Commission's Report and Order, FCC 17-75, published at 82 FR 46690, October 6, 2017. The OMB Control Number is 3060-1245. The Commission publishes this document as an announcement of the effective date of the rules. If you have any comments on the burden estimates listed below, or how the Commission can improve the collections and reduce any burdens caused thereby, please contact Nicole Ongele, Federal Communications Commission, Room 1-A620, 445 12th Street SW., Washington, DC 20554. Please include the OMB Control Number, 3060-1245, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 6, 2017, for the information collection requirements contained in the modifications to the Commission's rules in 47 CFR 90.532. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1245.

The foregoing notice is required by the Paperwork Reduction Act of 1995, Public Law 104-13, October 1, 1995, and 44 U.S.C. 3507.

The total annual reporting burdens and costs for the respondents are as follows:

OMB Control Number: 3060-1245.

OMB Approval Date: October 6, 2017.

OMB Expiration Date: April 30, 2018.

Title: Procedures for Commission Review of State Opt-Out Request from the FirstNet Radio Access Network.

Form Number: N/A.

Respondents: State, local or tribal governments.

Number of Respondents and Responses: 55 respondents; 110 responses.

Estimated Time per Response: 0.25 hours per initial notification.

Frequency of Response: One-time reporting requirement.

Obligation to Respond: Required to obtain or retain benefits. Statutory authority for requiring licensees to submit this information enter into the written agreements is contained in the Middle Class Tax Relief and Job Creation Act of 2012, Public Law 112 96, 126 Stat. 156 §§ 6001-6303, 6413 (codified at 47 U.S.C. 1401-1443, 1457).

Total Annual Burden: 26,414 hours.

Total Annual Cost: No cost.

Nature and Extent of Confidentiality: Alternative state plans are very likely to contain proprietary information as well as information whose disclosure could compromise network security. Parties may therefore seek confidential treatment of any filing under our Part 0 rules, including the use of a protective order process to allow other those granted party status to the restricted proceeding access to the information on a confidential basis.

Privacy Act: No impact(s).

Needs and Uses: The purpose of requiring this collection is to comply with Middle Class Tax Relief and Job Creation Act of 2012. The Middle Class Tax Relief and Job Creation Act of 2012 provides that “the Governor shall choose whether to participate in the deployment of the nationwide, interoperable broadband network as proposed by [FirstNet,] or conduct its own deployment of a radio access network in such State.” If a Governor chooses not to participate in the NPSBN, section 6302(e)(3)(A) of the Act requires the Governor to “notify [FirstNet], the NTIA, and the Commission of such decision.” The Act also states that an opt-out state “shall submit” to the Commission an “alternative plan” for “the construction, maintenance, operation, and improvements” of the RAN within the state. Section 3(C)(ii) of the Act mandates that “upon submission of this plan, the Commission shall approve or disapprove of the plan.”

We require that either the Governor or the Governor's his duly authorized designee may provide notification of the Governor's decision. The opt-out notification to the Commission must also include a certification that the state is providing simultaneous notice of its opt-out decision to both to NTIA and FirstNet. To facilitate the electronic filing of opt-out notifications, we will establish the email address opt-out@fcc.gov as the address for this purpose.

Each opt-out state will have 60 days from the completion of its Request For Proposal (240 days from the date of its opt-out notification to the Commission) to file an alternative state plan via the secure email address opt-out@fcc.gov or via certified mail to the Secretary's office.

Federal Communications Commission.
Marlene H. Dortch,
Secretary, Office of the Secretary.

[FR Doc. 2017-22339 Filed 10-13-17; 8:45 am]

BILLING CODE 6712-01-P